NATIONAL COMMUNICATIONS SYSTEM

Telecommunications Service Priority System Oversight Committee

AGENCY: National Communications System (NCS).

ACTION: Notice of Meeting.

A meeting of the Telecommunications Service Priority (TSP) System Oversight Committee will convene Tuesday, April 25, 2000 from 9:00 a.m. to 12:00 p.m. The meeting will be held at 701 South Court House Road, Arlington, VA in the NCC conference room on the 2nd floor.

—Opening/Administration Remarks

—Status of the TSP Program

—CLEC/Broadband Discussion

Anyone interested in attending or presenting additional information to the Committee, please contact Mr. Richard Moran, Manager, Office of Priority Telecommunications, (703) 607-4930.

Frank McClelland,
Federal Register Liaison Officer, National Communications System.

[FR Doc. 00-9511 Filed 4-14-00; 8:45 am]

BILLING CODE 5001-08-M